DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest.

DATES: This action was issued on February 24, 2025. See Supplementary Information for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On February 24, 2025, OFAC determined that the property and interests in property subject to U.S. jurisdiction of the following persons are blocked under the relevant sanctions authority listed below.

BILLING CODE 4810-AL-P

BILLING CODE 4810-AL-C

On February 24, 2025, OFAC also identified the following vessels as property in which a blocked person has an interest under the relevant sanctions authority listed below.

Vessels

1. CASINOVA (a.k.a. YING GE) (8P2583) Crude Oil Tanker Barbados flag; Vessel Registration Identification IMO 9280366; MMSI 314001045 (vessel) [IRAN-EO13902] (Linked To: LE MONDE MARINE SERVICES LIMITED).

Identified as property in which LE MONDE MARINE SERVICES LIMITED, a person whose property and interests in property are blocked pursuant to E.O. 13902, has an interest.

2. AYDEN (3E3779) Crude Oil Tanker Panama flag; Vessel Registration Identification IMO 9365764; MMSI 352002097 (vessel) [IRAN-EO13902] (Linked To: GREEN GARDEN TRADING LTD).

Identified as property in which GREEN GARDEN TRADING LTD, a person whose property and interests in property are blocked pursuant to E.O. 13902, has an interest.

3. FIONA (3E2212) Crude Oil Tanker Panama flag; Vessel Registration Identification IMO 9365752; MMSI 352002219 (vessel) [IRAN-EO13902] (Linked To: ARTEMIS HEART LTD).

Identified as property in which ARTEMIS HEART LTD, a person whose property and interests in property are blocked pursuant to E.O. 13902, has an interest.

4. LYDIA II (3E2202) Crude Oil Tanker Panama flag; Vessel Registration Identification IMO 9365776; MMSI 352002042 (vessel) [IRAN-EO13902] (Linked To: SUNNY LAND TRADING LTD).

Identified as property in which SUNNY LAND TRADING LTD, a person whose property and interests in property are blocked pursuant to E.O. 13902, has an interest.

5. URGANE I (3FUU7) Crude Oil Tanker Panama flag; Vessel Registration Identification IMO 9231901; MMSI 370207000 (vessel) [IRAN-EO13902] (Linked To: NYCITY SHIPMANAGEMENT CO LTD).

Identified as property in which NYCITY SHIPMANAGEMENT CO LTD, a person whose property and interests in property are blocked pursuant to E.O. 13902, has an interest.

Lisa M. Palluconi,
Acting Director, Office of Foreign Assets Control.

[FR Doc. 2025-03238 Filed 2-27-25; 8:45 am]

BILLING CODE 4810-AL-P